DEPARTMENT OF ENERGY

Federal Energy Regulatory Commission

Combined Notice of Filings

Take notice that the Commission has received the following Natural Gas Pipeline Rate and Refund Report filings:

Docket Number: PR21-54-000.

Applicants: Black Hills Wyoming Gas, LLC.

Description: Tariff filing per 284.123(b),(e)+: Black Hills Wyoming Gas, LLC Revised Statement of Rates Filing to be effective 6/1/2021.

Filed Date: 6/30/2021.

Accession Number: 20210630-5005.

Comments Due: 5 p.m. ET 7/21/2021.

284.123(g) Protests Due: 5 p.m. ET 8/30/2021.

Docket Numbers: RP10-837-000.

Applicants: Dominion Transmission, Inc.

Description: Report Filing: EGTS—Operational Gas Sales Report—2021.

Filed Date: 6/30/21.

Accession Number: 20210630-5142.

Comments Due: 5 p.m. ET 7/12/21.

Docket Numbers: RP10-900-000.

Applicants: Dominion Transmission, Inc.

Description: Report Filing: EGTS—Informational Fuel Report—2021.

Filed Date: 6/30/21.

Accession Number: 20210630-5144.

Comments Due: 5 p.m. ET 7/12/21.

Docket Numbers: RP21-919-000.

Applicants: Gulf South Pipeline Company, LLC.

Description: § 4(d) Rate Filing: Cap Rel Neg Rate Agmts (Atlanta Gas 8438 to various eff 7-1-2021) to be effective 7/1/2021.

Filed Date: 6/30/21.

Accession Number: 20210630-5016.

Comments Due: 5 p.m. ET 7/12/21.

Docket Numbers: RP21-920-000.

Applicants: Carolina Gas Transmission, LLC.

Description: § 4(d) Rate Filing: CGT—June 30, 2021 Negotiated Rate Agreement to be effective 7/1/2021.

Filed Date: 6/30/21.

Accession Number: 20210630-5017.

Comments Due: 5 p.m. ET 7/12/21.

Docket Numbers: RP21-921-000.

Applicants: Gulf South Pipeline Company, LLC.

Description: § 4(d) Rate Filing: Cap Rel Neg Rate Agmt (Constellation 54138 to Exelon 54167) to be effective 7/1/2021.

Filed Date: 6/30/21.

Accession Number: 20210630-5019.

Comments Due: 5 p.m. ET 7/12/21.

Docket Numbers: RP21-922-000.

Applicants: Northern Natural Gas Company.

Description: § 4(d) Rate Filing: 20210630 Negotiated Rate to be effective 7/1/2021.

Filed Date: 6/30/21.

Accession Number: 20210630-5024.

Comments Due: 5 p.m. ET 7/12/21.

Docket Numbers: RP21-923-000.

Applicants: Portland Natural Gas Transmission System.

Description: § 4(d) Rate Filing: American Performance Polymers Neg Rate Agreement to be effective 7/1/2021.

Filed Date: 6/30/21.

Accession Number: 20210630-5035.

Comments Due: 5 p.m. ET 7/12/21.

Docket Numbers: RP21-924-000.

Applicants: Nautilus Pipeline Company, L.L.C.

Description: § 4(d) Rate Filing: Nautilus Updates to Tariff Contact Person to be effective 7/30/2021.

Filed Date: 6/30/21.

Accession Number: 20210630-5051.

Comments Due: 5 p.m. ET 7/12/21.

Docket Numbers: RP21-925-000.

Applicants: Garden Banks Gas Pipeline, LLC.

Description: § 4(d) Rate Filing: GB Updates to Tariff Contact Person to be effective 7/30/2021.

Filed Date: 6/30/21.

Accession Number: 20210630-5059.

Comments Due: 5 p.m. ET 7/12/21.

Docket Numbers: RP21-926-000.

Applicants: Transcontinental Gas Pipe Line Company, LLC.

Description: § 4(d) Rate Filing: Negotiated Rates—Cherokee AGL—Replacement Shippers—Jul 2021 to be effective 7/1/2021.

Filed Date: 6/30/21.

Accession Number: 20210630-5064.

Comments Due: 5 p.m. ET 7/12/21.

Docket Numbers: RP21-927-000.

Applicants: MoGas Pipeline LLC.

Description: § 4(d) Rate Filing: MoGas Negotiated Rate Agreement Filing to be effective 6/1/2021.

Filed Date: 6/30/21.

Accession Number: 20210630-5083.

Comments Due: 5 p.m. ET 7/12/21.

Docket Numbers: RP21-928-000.

Applicants: Eastern Gas Transmission and Storage, Inc.

Description: § 4(d) Rate Filing: EGTS—June 30, 2021 Nonconforming Service Agreements to be effective 8/1/2021.

Filed Date: 6/30/21.

Accession Number: 20210630-5093.

Comments Due: 5 p.m. ET 7/12/21.

Docket Numbers: RP21-929-000.

Applicants: Texas Eastern Transmission, LP.

Description: § 4(d) Rate Filing: TETLP EPC AUG 2021 FILING to be effective 8/1/2021.

Filed Date: 6/30/21.

Accession Number: 20210630-5138.

Comments Due: 5 p.m. ET 7/12/21.

Docket Numbers: RP21-930-000.

Applicants: East Tennessee Natural Gas, LLC.

Description: § 4(d) Rate Filing: 2021 ETNG Fuel Filing to be effective 8/1/2021.

Filed Date: 6/30/21.

Accession Number: 20210630-5165.

Comments Due: 5 p.m. ET 7/12/21.

Docket Numbers: RP21-931-000.

Applicants: Natural Gas Pipeline Company of America LLC.

Description: § 4(d) Rate Filing: Negotiated Rate Agreements Filing-Prairieland Energy, Inc to be effective 7/1/2021.

Filed Date: 6/30/21.

Accession Number: 20210630-5166.

Comments Due: 5 p.m. ET 7/12/21.

Docket Numbers: RP21-932-000.

Applicants: Colorado Interstate Gas Company, L.L.C.

Description: § 4(d) Rate Filing: Negotiated Rate Agreement Filing (Colorado Natural Gas #218569-TF1CIG) to be effective 7/1/2021.

Filed Date: 6/30/21.

Accession Number: 20210630-5180.

Comments Due: 5 p.m. ET 7/12/21.

Docket Numbers: RP21-933-000.

Applicants: MIGC LLC.

Description: Annual Fuel Retention Percentage Tracker of MIGC LLC under RP21-933.

Filed Date: 6/30/21.

Accession Number: 20210630-5227.

Comments Due: 5 p.m. ET 7/12/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 1, 2021.
Debbie-Anne A. Reese,
Deputy Secretary.

[FR Doc. 2021-14587 Filed 7-7-21; 8:45 am]

BILLING CODE 6717-01-P